DEPARTMENT OF THE INTERIOR

Office of Natural Resources Revenue

[Docket No. ONRR-2011-0007]

30 CFR Part 1206

Second Notice of Intent To Establish an Indian Oil Valuation Negotiated Rulemaking Committee

AGENCY: Office of Natural Resources Revenue, Interior.

ACTION: Notice of intent.

SUMMARY: On January 31, 2011, the Department published a notice of intent to establish an Indian Oil Valuation Negotiated Rulemaking Committee. In that notice, we asked interested parties to nominate representatives for membership on the Committee and addressed many of the requirements of Section 564 of the Negotiated Rulemaking Act. This notice identifies the persons proposed to serve on the Committee and addresses the rest of the requirements of Section 564 of the Negotiated Rulemaking Act.

DATES: Submit written comments on or before September 21, 2011.

ADDRESSES: You may submit comments and applications by the following methods:

• Electronically go to http://www.regulations.gov. In the entity titled “Enter Keyword or ID,” enter ONRR-2011-0007, and then click search. Follow the instructions to submit public comments. The ONRR will post all comments to the docket.

• Mail or hand-carry (also, courier service) comments to Mr. Karl Wunderlich, Office of Natural Resources Revenue (ONRR), P.O. Box 25165, MS 300B2, Denver, CO 80225-0165. Please reference the Docket No. ONRR-2011-0007 in your comments.

FOR FURTHER INFORMATION CONTACT: Mr. Karl Wunderlich, ONRR, Telephone: (303) 231-3663; Fax: (303) 231-3194, or E-mail: karl.wunderlich@onrr.gov.

SUPPLEMENTARY INFORMATION: On January 31, 2011, the Department published a notice of intent to establish an Indian Oil Valuation Negotiated Rulemaking Committee (76 FR 5317). You may refer to that notice for background information. The Committee will develop specific recommendations regarding proposed revisions to the existing regulations for valuation of oil production from Indian leases. One of the key issues to be addressed is the major portion valuation requirement. Section 564 of the Negotiated Rulemaking Act requires an agency to consider eight elements when it is considering the establishment of a Negotiated Rulemaking Committee. In the January 2011 notice, we announced our intent to establish a negotiated rulemaking committee to negotiate and develop a proposed rule and asked interested parties to nominate representatives for membership on the Committee. We received 12 responses nominating individuals to serve on the Committee. This notice addresses the rest of the elements of Section 564. We believe that using a negotiated rulemaking committee to make specific recommendations regarding valuation of oil from Indian leases would help the Office of Natural Resources Revenue (ONRR) in developing a rulemaking.

The interests significantly affected are oil and gas companies who produce oil and pay royalties on Indian leases, and Indian Tribes and individual Indian mineral owners who receive royalties from oil produced from Indian leases located on their lands.

The ONRR is making a commitment to ensure that the Committee has sufficient administrative and technical resources to complete its work in a timely fashion. ONRR, with the help of a facilitator, will prepare all agendas, provide meeting notes, and provide a final report of any issues on which that the committee reached consensus. ONRR will also obtain meeting space for all meetings.

The use of negotiated rulemaking will not unreasonably delay the development of a proposed rule because time limits will be placed on the negotiation. We anticipate that negotiation will expedite a proposed rule and ultimately the acceptance of a final rule.

There is a reasonable likelihood that the Committee will reach consensus on a proposed rule within a fixed period of time. It is anticipated that a proposed rule will be published for notice and comment within 30 months of convening the committee. Quarterly meetings will be held with the first meeting planned for early fall.

Proposed Members of the Committee

The Department believes that the interests significantly affected by this rule will be represented by the representatives listed below:

Claire Ware, A representative of the Shoshone and Arapaho Tribes of the Wind River Reservation;

Manuel Myore, A representative of the Ute Indian Tribe;

Roger Bird Bear, A representative of the allottees of Fort Berthold, North Dakota;

Marcella Giles, A representative of the allottees of Oklahoma Indian Land/Mineral Owners of Associated Nations;

Perry Shirley, A representative of The Navajo Nation;

James Barnes, A representative of the Council of Petroleum Accountants Societies;

Rob Thompson, A representative of the Western Energy Alliance;

Dan Riemer, A representative of the American Petroleum Institute;

Jack Vaughn, A representative of Peak Energy Resources;

Dee Ross, A representative of Chesapeake Energy Corporation;

Donald Sant, Paul Tyler, and John Barder, Three representatives of the Office of Natural Resources Revenue; and

Weldon Loudermilk, A representative of the Bureau of Indian Affairs.

Persons who will be significantly affected by a proposed rule, and who believe their interests will not be adequately represented by any person listed above, may apply for or nominate another person for membership on the negotiated rulemaking committee to represent such interests to the proposed rule. Each application or nomination should include: (1) The name of the applicant or nominee and a description of the interests such person shall represent; (2) evidence that the applicant or nominee is authorized to represent parties related to the interests the person proposes to represent; (3) a written commitment that the applicant or nominee shall actively participate in good faith in the development of the rule under consideration; and (4) the reasons that the persons do not adequately represent the interests of the person submitting the application or nomination.

All submission of comments and applications should be submitted no later than 30 calendar days following publication of this notice. Please submit comments and applications by instructions shown in ADDRESSES.

The ONRR will publish the first meeting date in a Federal Register notice. The Committee will determine the dates of future meetings, and we will then publish notice of the dates in the Federal Register. The first meeting will develop the ground rules on what consensus means and if there is any issues other than the major portion analysis that needs to be discussed.

Following receipt of comments on this notice, ONRR will establish the Negotiated Rulemaking Committee. The ONRR will participate in the Committee to represent the Federal Government's statutory mission. After the Committee reaches consensus on the provisions of a proposed rule ONRR will develop a proposed rule to be published in the Federal Register.

Certification

I hereby certify that the Indian Oil Valuation Negotiated Rulemaking Committee is in the public interest.

Dated: August 15, 2011.
Ken Salazar,
Secretary of the Interior.

[FR Doc. 2011-21305 Filed 8-19-11; 8:45 am]

BILLING CODE 4310-MR-P